INTER-AMERICAN FOUNDATION

Agenda for Meeting of the Presidential Search Committee of the Boards of Directors

Date: March 12, 2005.

Time: 10 a.m.-1:30 p.m.

The meeting will be held at the Club Quarters Hotel 839 17th St. NW., Washington, DC 2006.

The meeting will be closed as provided in 22 CFR Part 1004.4(f) to discuss matters related to the search for candidates for the position of President of the Inter-American Foundation.

10 a.m. Call to order. Begin executive session

1:30 Adjourn.

Jocelyn Nieva,
Acting General Counsel.

[FR Doc. 05-4008 Filed 2-25-05; 1:08 pm]

BILLING CODE 7025-01-M